DEPARTMENT OF DEFENSE

Office of the Secretary

Cancellation of Open Meeting of the National Defense University Board of Visitors (BOV)

AGENCY: National Defense University (NDU), DoD.

ACTION: Notice of cancellation of an open meeting.

SUMMARY: The Department of Defense, National Defense University, announced an open meeting of the National Defense University Board of Visitors on January 10, 2011 (76 FR 1408). The meeting previously scheduled to be held on April 7 & 8, 2011, has been canceled. This meeting will be rescheduled for a later date.

FOR FURTHER INFORMATION CONTACT: Ms. Dolores Hodge @ (202) 685-0082, Fax (202) 685-7707 or HodgeD@ndu.edu.

Dated: March 11, 2011.
Morgan F. Park,
Alternate OSD Federal Register Liaison Officer, Department of Defense.

[FR Doc. 2011-6358 Filed 3-17-11; 8:45 am]

BILLING CODE 5001-06-P